DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Checklist for SF-5161 (OMB No. 0930-0367)—REVISION

The Substance Abuse and Mental Health Services Administration (SAMHSA) is requesting a revision from the Office of Management and Budget (OMB) for the SF-5161-Checklist. SAMHSA is requesting approval to only collect information on the Checklist and not the Narrative. The Checklist assists applicants and recipients to ensure that they have included all required information necessary to process new and continuation applications as well as the name, title, and phone number of the current business official and project director responsible for carrying out the project. Checklist information concerning the type of application is also needed since new, competing continuation; noncompeting continuation and supplemental applications are separated and reviewed differently. The checklist data helps to reduce the time required to process and review grant applications, expediting the issuance of grant awards as well as ensure collection of essential recipient contact information that is not collected elsewhere.

This data collection has been transferred from HHS to SAMHSA.

The checklist is part of the standard application (SF-5161) for State and local governments and for private non-profit and for-profit organizations when applying for health services projects. Below is the burden table.

Forms | Number of respondents | Response per respondent | Average burden per response (in hours) | Total burden (in hours)
Program Checklist | 2,669 | 1 | .3 | 801

Send comments to Summer King, SAMHSA Reports Clearance Officer, 5600 Fishers Lane, Room 15E57-B, Rockville, Maryland 20857, OR email a copy to summer.king@samhsa.hhs.gov. Written comments should be received by May 8, 2017.

Summer King,
Statistician.

[FR Doc. 2017-04493 Filed 3-7-17; 8:45 am]

BILLING CODE 4162-20-P